DEPARTMENT OF THE INTERIOR

Fish and Wildlife Service

[FWS-R4-R-2012-N211; FXRS12650400000S3-123-FF04R02000]

Cahaba River National Wildlife Refuge, Alabama

AGENCY: Fish and Wildlife Service, Interior.

ACTION: Notice of intent to prepare a comprehensive conservation plan and environmental assessment; request for comments.

SUMMARY: We, the Fish and Wildlife Service (Service), intend to prepare a comprehensive conservation plan (CCP) and associated National Environmental Policy Act (NEPA) documents for Cahaba River National Wildlife Refuge (NWR) in Bibb County, Alabama. We provide this notice in compliance with our CCP policy to advise other Federal and State agencies, Native-American tribes, and the public of our intentions, and to obtain suggestions and information on the scope of issues to consider in the planning process.

DATES: To ensure consideration, we must receive your written comments by December 13, 2012.

ADDRESSES: You may send comments, questions, and requests for information to: Ms. Sarah Clardy, Refuge Manager, Cahaba River NWR, P.O. Box 5087, Anniston, AL 36205; or cahabariverccp@fws.gov (email).

FOR FURTHER INFORMATION CONTACT: Mr. Oliver van den Ende, Natural Resource Planner, Wheeler National Wildlife Refuge, 2700 Refuge Headquarters Road, Decatur, AL 35603; 256-353-7243, Ext. 28 (telephone); 256-340-9728 (fax); oliver_vandenende@fws.gov (email).

SUPPLEMENTARY INFORMATION:

Introduction

With this notice, we initiate our process for developing a CCP for Cahaba River NWR in Alabama. This notice complies with our CCP policy to: (1) Advise other Federal and State agencies, Native-American tribes, and the public of our intention to conduct detailed planning on this refuge; and (2) obtain suggestions and information on the scope of issues to consider in the environmental document and during development of the CCP.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System (Refuge System), consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Each unit of the Refuge System was established for specific purposes. We use these purposes as the foundation for developing and prioritizing the management goals and objectives for each refuge within the Refuge System mission, and to determine how the public can use each refuge. The planning process is a way for us and the public to evaluate management goals and objectives for the best possible conservation approach to this important wildlife habitat, while providing for wildlife-dependent recreation opportunities that are compatible with the refuge's establishing purposes and the mission of the Refuge System.

Our CCP process provides participation opportunities for Tribal, State, and local governments; agencies; organizations; and the public. We encourage input in the form of issues, concerns, ideas, and suggestions for the future management of Cahaba River NWR.

We will conduct the environmental review of this project in accordance with the requirements of the National Environmental Policy Act of 1969, as amended (NEPA) (42 U.S.C. 4321 et seq.); NEPA regulations (40 CFR 1500-1508); other appropriate Federal laws and regulations; and our policies and procedures for compliance with those laws and regulations.

Cahaba River NWR was established in 2002 under the authority of the Cahaba River National Wildlife Refuge Establishment Act, Public Law 106-331, dated October 19, 2000. This legislation directed the Secretary of the Interior to acquire up to 3,500 acres of lands and waters to establish the refuge. In 2004, the Regional Director of the Service (Southeast Region) authorized the expansion of the acquisition boundary of the refuge to include an additional 340 acres of property at the confluence of the Cahaba and Little Cahaba Rivers. In 2006, Pub. Law 109-363 was signed by the President, authorizing further expansion of the acquisition boundary by 3,600 acres. In 2008, the Regional Director authorized a 360-acre expansion of the acquisition boundary. The refuge currently contains 3,608 acres in Bibb County.

The refuge was established to: (1) Conserve, enhance, and restore the native aquatic and terrestrial community characteristics of the Cahaba River (including associated fish, wildlife, and plant species); (2) conserve, enhance, and restore habitat to maintain and assist in the recovery of plants and animals that are listed under the Endangered Species Act of 1973 (16 U.S.C. 1331 et seq.); (3) provide opportunities for compatible wildlife-dependent recreation; and (4) facilitate partnerships among the Service, local communities, conservation organizations, and other non-Federal entities to encourage participation in the conservation of the refuge's resources.

Public Availability and Comments

Before including your address, phone number, email address, or other personal identifying information in your comment, you should be aware that your entire comment—including your personal identifying information—may be made publicly available at any time. While you can ask us in your comment to withhold your personal identifying information from public review, we cannot guarantee that we will be able to do so.

Authority

This notice is published under the authority of the National Wildlife Refuge System Improvement Act of 1997 (16 U.S.C. 668dd et seq.).

Dated: September 27, 2012.
Mark J. Musaus,
Acting Regional Director.

[FR Doc. 2012-27526 Filed 11-9-12; 8:45 am]

BILLING CODE 4310-55-P